ENVIRONMENTAL PROTECTION AGENCY

40 CFR Part 300

[EPA-HQ-SFUND-2000-0006; FRL-9185-5]

National Oil and Hazardous Substance Pollution Contingency Plan; National Priorities List: Intent To Delete the Peter Cooper Corporation (Markhams) Superfund Site

AGENCY: Environmental Protection Agency (EPA).

ACTION: Proposed rule.

SUMMARY: The Environmental Protection Agency (EPA), Region 2 is issuing a Notice of Intent to Delete the Peter Cooper Corporation (Markhams) Superfund Site (Markhams Site) located in the Town of Dayton, Cattaraugus County, New York from the National Priorities List (NPL) and requests public comments on this notice of intent. The NPL, promulgated pursuant to section 105 of the Comprehensive Environmental Response, Compensation, and Liability Act (CERCLA) of 1980, as amended, is an appendix of the National Oil and Hazardous Substances Pollution Contingency Plan (NCP). The EPA and the State of New York, through the Department of Environmental Conservation (NYSDEC), have determined that all appropriate response actions under CERCLA, other than operation and maintenance and five-year reviews, have been completed. However, this deletion does not preclude future actions under Superfund.

DATES: Comments concerning this Site must be received by September 7, 2010.

ADDRESSES: Written comments should be addressed to Michael Basile, Community Involvement Coordinator, USEPA, Western NY Public Information Office, 186 Exchange Place, Buffalo, New York 14204-2026, 716-551-4410.

FOR FURTHER INFORMATION CONTACT: Sherrel D. Henry, Remedial Project Manager, U.S. EPA, 290 Broadway, 20th Floor, New York, New York 10007-1866, (212) 637-4273.

SUPPLEMENTARY INFORMATION: In the “Rules and Regulations” Section of today's Federal Register, we are publishing a direct final notice of deletion of the Peter Cooper Corporation (Markhams) Superfund Site without prior notice of intent to delete because we view this as a noncontroversial revision and anticipate no adverse comment. We have explained our reasons for this deletion in the preamble to the direct final deletion. If we receive no adverse comment(s) on this notice of intent to delete or the direct final notice of deletion, we will not take further action on this notice of intent to delete. If we receive adverse comment(s), we will withdraw the direct final notice of deletion and it will not take effect. We will, as appropriate, address all public comments in a subsequent final deletion notice based on this notice of intent to delete. We will not institute a second comment period on this notice of intent to delete. Any parties interested in commenting must do so at this time. For additional information, see the direct final notice of deletion, which is located in the Rules section of this Federal Register. For additional information, see Direct Final Notice of Deletion which is located in the Rules section of the Federal Register.

Information Repositories: Repositories have been established to provide detailed information concerning this decision at the following addresses:

U.S. Environmental Protection Agency, Region 2, Superfund Records Center, 290 Broadway, Room 1828, New York, NY 10007-1866. (212) 637-4308. Monday through Friday: 9 a.m. through 5 p.m.

or

Town of Dayton, Town Building, 9100 Route 62, South Dayton, New York 14138. (716) 532-9449. Monday through Friday: 9 a.m. through 5 p.m.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(c)(2); 42 U.S.C. 9601-9657; E.O. 12777, 56 FR 54757, 3 CFR, 1991 Comp., p. 351; E.O. 12580, 52 FR 2923, 3 CFR, 1987 Comp., p. 193.

Dated: July 25, 2010.
Judith A. Enck,
Regional Administrator, Region 2.

[FR Doc. 2010-19420 Filed 8-5-10; 8:45 am]

BILLING CODE 6560-50-P